NUCLEAR REGULATORY COMMISSION

[Docket Nos. (as shown in Attachment 1); License Nos. (as shown in Attachment 1); EA-06-037]

In the Matter of Operating Power Reactor Licensees Identified in Attachment 1; Order Modifying Licenses (Effective Immediately)

I.

The licensees identified in Attachment 1 to this Order hold licenses issued by the U.S. Nuclear Regulatory Commission (NRC or the Commission) authorizing operation of nuclear power plants in accordance with the Atomic Energy Act of 1954 and Title 10 of the Code of Federal Regulations (10 CFR) part 50. Commission regulations at 10 CFR 50.54(p)(1) require these licensees to maintain safeguards contingency plan procedures in accordance with 10 CFR part 73, Appendix C. Specific safeguards requirements for reactors are contained in 10 CFR 73.55.

II.

On September 11, 2001, terrorists simultaneously attacked targets in New York, N.Y., and Washington, DC, using large commercial aircraft as weapons. In response to the attacks and intelligence information subsequently obtained, the Commission issued a number of Safeguards and Threat Advisories to its licensees, and eventually Orders to selected licensees, to strengthen licensees' capabilities and readiness to respond to a potential attack on a nuclear facility. On April 29, 2003, the Commission issued an Order to all operating power reactor licensees that enhanced the design basis threat (DBT) specified in 10 CFR 73.1.

As a result of the Commission's continued assessment of threat information, the Commission has determined that a revision to one of the specific adversary characteristics set forth in the April 29, 2003, DBT Order needs to be updated and enhanced. The update to the adversary characteristic is set forth in Attachment 2¹ of this Order. Each licensee must amend its site security plans to address the new adversary characteristic in its protective strategy.

¹ Attachment 2 contains Safeguards Information and will not be publicly disclosed.

Any needed changes to the physical security plan, safeguards contingency plan, or guard training and qualification plan required by 10 CFR 50.34(c), 50.34(d), and 73.55(b)(4)(ii), respectively, shall be completed and implemented within 60 days of the date of this Order.

Pursuant to 10 CFR 2.202, I find that in the circumstances described above, the public health, safety, and interest and the common defense and security require that this Order be immediately effective.

III.

Accordingly, pursuant to Sections 103, 104, 161b, 161i, 161o, 182, and 186 of the Atomic Energy Act of 1954, as amended, and the Commission's regulations in 10 CFR 2.202 and 10 CFR parts 50 and 73, it is hereby ordered, effective immediately, that all licenses identified in Attachment 1 to this order are modified as follows:

A.1. Each licensee shall revise its physical security plan and safeguards contingency plan, prepared pursuant to 10 CFR 50.34(c) and 50.34(d), to provide protection against the updated adversary characteristic set forth in Attachment 2 to this Order. In addition, each licensee shall revise its training and qualification plan, required by 10 CFR 73.55(b)(4)(ii), to implement the updated adversary characteristic set forth in Attachment 2 to this Order.

2. Each licensee shall implement necessary changes to its physical security plan, safeguards contingency plan, and guard training and qualification plan no later than 60 days from the date of this Order.

B.1. Each licensee shall, within twenty-one (21) days of the date of this Order, notify the Commission: (1) If the licensee is unable to comply with any requirement of this Order, (2) if compliance with any requirement of this Order is unnecessary in the licensee's specific circumstances, or (3) if implementation of any requirement of this Order would cause the licensee to be in violation of the provisions of any Commission regulation or the facility license. The notification shall provide the licensee's justification for seeking relief from, or variation of, any specific requirement.

2. Any licensee that considers that implementation of any of the requirements of this Order would adversely impact safe operation of the facility must notify the Commission, within twenty-one (21) days of this Order, of the adverse safety impact, the basis for its determination that the requirement has an adverse safety impact, and either a proposal for achieving the same objectives of this Order, or a schedule for modifying the facilities to address the adverse safety condition. If neither approach is appropriate, the licensee must supplement its response to Condition B.1. of this Order to identify the condition as a requirement with which it cannot comply, with attendant justifications as required in Condition B.1.

C. Each licensee shall report to the Commission, in writing, when it has fully implemented this Order. The notification shall be made no later than 60 days from the date of the Order and include substitute security plan pages that reflect any changes made to implement the Order.

D. All measures implemented or actions taken in response to this Order shall be maintained until the Commission determines otherwise, except that the licensee may change its revised physical security plans, safeguards contingency plans, and guard training and qualification plans if authorized by 10 CFR 50.54(p).

Licensee responses to Conditions A.1, B.1, B.2, and C above, shall be submitted in accordance with 10 CFR 50.4. In addition, licensee submittals that contain safeguards information shall be properly marked and handled in accordance with 10 CFR 73.21.

The Director, Office of Nuclear Reactor Regulation, may, in writing, relax or rescind any of the above conditions upon demonstration by the licensee of good cause.

IV.

In accordance with 10 CFR 2.202, the licensee must, and any other person adversely affected by this Order may, submit an answer to this Order, and may request a hearing on this Order, within twenty-one (21) days of the date of this Order. Where good cause is shown, consideration will be given to extending the time to request a hearing. A request for an extension of time in which to submit an answer or request a hearing must be made in writing to the Director, Office of Nuclear Reactor Regulation, U.S. Nuclear Regulatory Commission, Washington, DC 20555-0001, and include a statement of good cause for the extension. The answer may consent to this Order. Unless the answer consents to this Order, the answer shall, in writing and under oath or affirmation, specifically set forth the matters of fact and law on which the licensee or other person adversely affected relies and the reasons as to why the Order should not have been issued. Any answer or request for a hearing shall be submitted to the Secretary, Office of the Secretary of the Commission, U.S. Nuclear Regulatory Commission, ATTN: Rulemakings and Adjudications Staff, Washington, DC 20555-0001. Copies also shall be sent to the Director, Office of Nuclear Reactor Regulation, U.S. Nuclear Regulatory Commission, Washington, DC 20555-0001; to the Assistant General Counsel for Materials Litigation and Enforcement at the same address; to the Regional Administrator for NRC Region I, II, III, or IV, as appropriate for the specific facility; and to the licensee if the answer or hearing request is by a person other than the licensee. Because of possible delays in delivery of mail to United States Government offices, it is requested that answers and requests for hearing be transmitted to the Secretary of the Commission either by means of facsimile transmission to 301-415-1101 or by e-mail to hearingdocket@nrc.gov and also to the Office of the General Counsel either by means of facsimile transmission to 301-415-3725 or by e-mail to OGCMailCenter.gov. If a person other than the licensee requests a hearing, that person shall set forth with particularity the manner in which his or her interest is adversely affected by this Order and shall address the criteria set forth in 10 CFR 2.309(d).

If a hearing is requested by the licensee or a person whose interest is adversely affected, the Commission will issue an Order designating the time and place of any hearing. If a hearing is held, the issue to be considered at such hearing shall be whether this Order should be sustained.

Pursuant to 10 CFR 2.202(c)(2)(i), the licensee may, in addition to demanding a hearing, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section III above shall be final twenty-one (21) days from the date of this Order without further order or proceedings. If an extension of time for requesting a hearing has been approved, the provisions specified in Section III shall be final when the extension expires if a hearing request has not been received. An answer or a request for hearing shall not stay the immediate effectiveness of this order.

For the Nuclear Regulatory Commission.
Dated this 20th day of March 2006.
J.E. Dyer,
Director, Office of Nuclear Reactor Regulation.

Attachment 1—List of Addressees; Power Plants—Senior Executive/Security Contacts

Mr. William Levis

Senior Vice President & Chief Nuclear Officer

PSEG Nuclear LLC-N09

Salem Nuclear Generating Station, Units 1 & 2

Docket Nos. 50-272 & 50-311

License Nos. DPR-70 & DPR-75

End of Buttonwood Road

Hancocks Bridge, NJ 08038

Mr. William Levis

Senior Vice President & Chief Nuclear Officer

PSEG Nuclear LLC-X15

Hope Creek Generating Station, Unit 1

Docket No. 50-354

License No. NPF-57

End of Buttonwood Road

Hancocks Bridge, NJ 08038

Mr. Michael Kansler

President

Entergy Nuclear Operations, Inc.

Pilgrim Nuclear Power Station, Unit 1

Docket No. 50-293

License No. DPR-35

440 Hamilton Avenue

White Plains, NY 10601

Mr. Michael Kansler

President

Entergy Nuclear Operations, Inc.

Vermont Yankee Nuclear Power Station

Docket No. 50-271

License No. DPR-28

440 Hamilton Avenue

White Plains, NY 10601

Mr. Michael Kansler

President

Entergy Nuclear Operations, Inc.

James A. FitzPatrick Nuclear Power Plant

Docket No. 50-333

License No. DPR-59

440 Hamilton Avenue

White Plains, NY 10601

Mr. Michael Kansler

President

Entergy Nuclear Operations, Inc.

Indian Point Nuclear Generating Station, Units 2 & 3

Docket Nos. 50-247 & 50-286

License Nos. DPR-26 & DPR-64

440 Hamilton Avenue

White Plains, NY 10601

Mr. Gene St. Pierre

Site Vice President

FPL Energy

Seabrook Station, Unit 1

Docket No. 50-443

License No. NPF-86

Central Receiving, Lafayette Road

Seabrook, NH 03874

Mr. James H. Lash

Vice President

FirstEnergy Nuclear Operating Company

Beaver Valley Power Station, Units 1 & 2

Docket Nos. 50-334 & 50-412

License Nos. DPR-66 & NPF-73

Route 168

Shippingport, PA 15077

Mr. James A. Spina

Vice President

Calvert Cliffs Nuclear Power Plant, Inc.

Calvert Cliffs Nuclear Power Plant, Units 1 & 2

Docket Nos. 50-317 & 50-318

License Nos. DPR-53 & DPR-69

1650 Calvert Cliffs Parkway

Lusby, MD 20657-4702

Mrs. Mary G. Korsnick

Vice President

R. E. Ginna Nuclear Power Plant, LLC

Docket No. 50-244

License No. DPR-18

1503 Lake Road

Ontario, NY 14519-9364

Mr. Timothy J. O'Connor

Vice President

Nine Mile Point Nuclear Station, LLC

Nine Mile Point Nuclear Station, Units 1 & 2

Docket Nos. 50-220 & 50-410

License Nos. DPR-63 & NPF-69

348 Lake Road

Oswego, NY 13126

Mr. Britt T. McKinney

Sr. Vice President & Chief Nuclear Officer

PPL Susquehanna, LLC

Susquehanna Steam Electric Station, Units 1 & 2

Docket Nos. 50-387 & 50-388

License Nos. NPF-14 & NPF-22

769 Salem Boulevard, NUCSB3

Berwick, PA 18603-0467

Mr. David A. Christian

Sr. Vice President & Chief Nuclear Officer

Dominion Nuclear Connecticut, Inc.

Millstone Power Station, Units 2 & 3

Docket Nos. 50-336 & 50-423

License Nos. DPR-65 & NPF-49

Innsbrook Technical Center, 5000 Dominion Boulevard

Glen Allen, VA 23060

Mr. David A. Christian

Sr. Vice President & Chief Nuclear Officer

Virginia Electric and Power Company

North Anna Power Station, Units 1 & 2

Docket Nos. 50-338 & 50-339

License Nos. NPF-4 & NPF-7

Innsbrook Technical Center, 5000 Dominion Boulevard

Glen Allen, VA 23060

Mr. David A. Christian

Sr. Vice President & Chief Nuclear Officer

Virginia Electric and Power Company

Surry Power Station, Units 1 & 2

Docket Nos. 50-280 & 50-281

License Nos. DPR-32 & DPR-37

Innsbrook Technical Center, 5000 Dominion Boulevard

Glen Allen, VA 23060

Mr. David A. Christian

Sr. Vice President & Chief Nuclear Officer

Dominion Energy Kewaunee, Inc.

Kewaunee Nuclear Power Plant

Docket No. 50-305

License No. DPR-43

Innsbrook Technical Center 5000 Dominion Boulevard

Glen Allen, VA 23060

Mr. Dhiaa M. Jamil

Vice President

Duke Energy Corporation

Catawba Nuclear Station, Units 1 & 2

Docket Nos. 50-413 & 50-414

License Nos. NPF-35 & NPF-52

4800 Concord Road

York, SC 29745

Mr. L. M. Stinson

Vice President—Farley Project

Southern Nuclear Operating Company, Inc.

Joseph M. Farley Nuclear Plant, Units 1& 2

Docket Nos. 50-348 & 50-364

License Nos. NPF-2 & NPF-8

40 Inverness Center Parkway

Birmingham, AL 35242

Mr. H. L. Sumner, Jr.

Vice President—Nuclear, Hatch Project

Southern Nuclear Operating Company, Inc.

Edwin I. Hatch Nuclear Plant, Units 1 & 2

Docket Nos. 50-321 & 50-366

License Nos. DPR-57 & NPF-5

40 Inverness Center Parkway

Birmingham, AL 35242

Mr. G. R. Peterson

Vice President

Duke Energy Corporation

William B. McGuire Nuclear Station, Units 1 & 2

Docket Nos. 50-369 & 50-370

License Nos. NPF-9 & NPF-17

12700 Hagers Ferry Road

Huntersville, NC 28078

Mr. Bruce H. Hamilton

Vice President, Oconee Site

Duke Energy Corporation

Oconee Nuclear Station, Units 1, 2 & 3

Docket Nos. 50-269, 50-270 & 50-287

License Nos. DPR-38, DPR-47 & DPR-55

7800 Rochester Highway

Seneca, SC 29672

Mr. Don E. Grissette

Vice President

Southern Nuclear Operating Company, Inc.

Vogtle Electric Generating Plant, Units 1 & 2

Docket Nos. 50-424 & 50-425

License Nos. NPF-68 & NPF-81

40 Inverness Center Parkway

Birmingham, AL 35242

Mr. James Scarola

Vice President

Carolina Power & Light Company

Progress Energy, Inc.

Brunswick Steam Electric Plant, Units 1 & 2

Docket Nos. 50-325 & 50-324

License Nos. DPR-71 & DPR-62

Hwy 87, 2.5 Miles North

Southport, NC 28461

Mr. C.J. Gannon

Vice President

Carolina Power & Light Company

Shearon Harris Nuclear Power Plant, Unit 1

Docket No. 50-400

License No. NPF-63

5413 Shearon Harris Road

New Hill, NC 27562-0165

Mr. Dale E. Young

Vice President

Supervisor, Licensing & Regulatory Programs

Florida Power Corporation

Crystal River Nuclear Generating Plant, Unit 3

Docket No. 50-302

License No. DPR-72

15760 W. Power Line Street

Crystal River, FL 34428-6708

Mr. J. W. Moyer

Vice President Carolina Power & Light Company

Progress Energy

H. B. Robinson Steam Electric Plant, Unit 2

Docket No. 50-261

License No. DPR-23

3581 West Entrance Road

Hartsville, SC 29550

Mr. Brian J. O'Grady

Site Vice President

Browns Ferry Nuclear Plant, Units 1, 2 & 3

Tennessee Valley Authority

Docket Nos. 50-259, 50-260 & 50-296

License Nos. DPR-33, DPR-52 & DPR-68

10835 Shaw Rd.

Athens, AL 35611

Mr. Michael Skaggs

Site Vice President

Watts Bar Nuclear Plant, Unit 1

Tennessee Valley Authority

Docket No. 50-390

License No. NPF-90

Highway 68 Near Spring City

Spring City, TN 37381

Mr. Randy Douet

Site Vice President

Sequoyah Nuclear Plant, Units 1 & 2

Tennessee Valley Authority

Docket Nos. 50-327 & 50-328

License Nos. DPR-77 & DPR-79

2000 Igou Ferry Road

Soddy Daisy, TN 37379

Mr. J. A. Stall

Senior Vice President, Nuclear & Chief Nuclear Officer

Florida Power and Light Company

St. Lucie, Units 1 & 2

Docket Nos. 50-335 & 50-389

License Nos. DPR-67 & NPF-16

700 Universe Boulevard

Juno Beach, FL 33408-0420

Mr. J. A. Stall

Senior Vice President, Nuclear and Chief Nuclear Officer

Florida Power and Light Company

Turkey Point Nuclear Generating Station, Units 3 and 4

Docket Nos. 50-250 & 50-251

License Nos. DPR-31 & DPR-41

700 Universe Boulevard

Juno Beach, FL 33408-0420

Mr. Mano K. Nazar

Senior Vice President & Chief Nuclear Officer

Indiana Michigan Power Company

Nuclear Generation Group

Donald C. Cook Nuclear Plant, Units 1 and 2

Docket Nos. 50-315 & 50-316

License Nos. DPR-58 & DPR-74

One Cook Place

Bridgman, MI 49106

Mr. Gary Van Middlesworth

Site Vice President

FLP Energy

Duane Arnold Energy Center

Docket No. 50-331

License No. DPR-49

3277 DAEC Road

Palo, IA 52324-9785

Mr. Donald K. Cobb

Assistant Vice President—Nuclear Generation

Detroit Edison Company

Fermi, Unit 2

Docket No. 50-341

License No. NPF-43

6400 North Dixie Highway

Newport, MI 48166

Mr. John Conway

Site Vice President

Nuclear Management Company, LLC

Monticello Nuclear Generating Plant

Docket No. 50-263

License No. DPR-22

2807 West County Road 75

Monticello, MN 55362-9637

Paul A. Harden

Site Vice President

Nuclear Management Company, LLC

Palisades Nuclear Plant

Docket No. 50-255

License No.DPR-20

27780 Blue Star Memorial Highway

Covert, MI 49043-9530

Mr. Dennis L. Koehl

Site Vice President

Nuclear Management Company, LLC

Point Beach Nuclear Plant, Units 1 & 2

Docket Nos. 50-266 & 50-301

License Nos. DPR-24 & DPR-27

6590 Nuclear Road

Two Rivers, WI 54241-9516

Mr. Thomas J. Palmisano

Site Vice President

Nuclear Management Company, LLC

Prairie Island Nuclear Generating Plant, Units 1 & 2

Docket Nos. 50-282 & 50-306

License Nos. DPR-42 & DPR-60

1717 Wakonade Drive East

Welch, MN 55089

Mr. Christopher M. Crane

President & Chief Nuclear Officer

Exelon Generation Company, LLC

Braidwood Station, Units 1 & 2

Docket Nos. 50-456 & 50-457

License Nos. NPF-72 & NPF-77

4300 Winfield Road

Warrenville, IL 60555

Mr. Christopher M. Crane

President & Chief Nuclear Officer

Exelon Generation Company, LLC

Byron Station, Units 1 & 2

Docket Nos. 50-454 & 50-455

License Nos. NPF-37 & NPF-66

4300 Winfield Road

Warrenville, IL 60555

Mr. Christopher M. Crane

President & Chief Nuclear Officer

Exelon Generation Company, LLC

Dresden Nuclear Power Station, Units 2 & 3

Docket Nos. 50-237 & 50-249

License Nos. DPR-19 & DPR-25

4300 Winfield Road

Warrenville, IL 60555

Mr. Christopher M. Crane

President & Chief Nuclear Officer

Exelon Generation Company, LLC

LaSalle County Station, Units 1 & 2

Docket Nos. 50-373 & 50-374

License Nos. NPF-11 & NPF-18

4300 Winfield Road

Warrenville, IL 60555

Mr. Christopher M. Crane

President & Chief Nuclear Officer

Exelon Generation Company, LLC

Quad Cities Nuclear Power Station, Units 1 & 2

Docket Nos. 50-254 & 50-265

License Nos. DPR-29 & DPR-30

4300 Winfield Road

Warrenville, IL 60555

Mr. Christopher M. Crane

President & Chief Nuclear Officer

Exelon Generation Company, LLC

Limerick Generating Station, Units 1 & 2

Docket Nos. 50-352 & 50-353

License Nos. NPF-39 & NPF-85

4300 Winfield Road

Warrenville, IL 60555

Mr. Christopher M. Crane

President & Chief Nuclear Officer

Exelon Generation Company, LLC

Peach Bottom Atomic Power Station,

Units 2 & 3

Docket Nos. 50-277 & 50-278

License Nos. DPR-44 & DPR-56

4300 Winfield Road

Warrenville, IL 60555

Mr. Christopher M. Crane

President & Chief Nuclear Officer

AmerGen Energy Company, LLC

Oyster Creek Nuclear Generating Station

Docket No. 50-219

License No. DPR-16

4300 Winfield Road

Warrenville, IL 60555

Mr. Christopher M. Crane

President & Chief Nuclear Officer

AmerGen Energy Company, LLC

Clinton Power Station

Docket No. 50-461

License No. NPF-62

4300 Winfield Road

Warrenville, IL 60555

Mr. Christopher M. Crane

President & Chief Nuclear Officer

AmerGen Energy Company, LLC

Three Mile Island Nuclear Station, Unit 1

Docket No. 50-289

License No. DPR-50

4300 Winfield Road

Warrenville, IL 60555

Mr. Mark Bezilla

Vice President, Davis-Besse

FirstEnergy Nuclear Operating Company

Davis-Besse Nuclear Power Station

Docket No. 50-346

License No. NPF-3

5501 North State Route 2

Oak Harbor, OH 43449-9760

Mr. L.W. Pearce

Vice President—Nuclear, Acting

FirstEnergy Nuclear Operating Company

Perry Nuclear Power Plant, Unit 1

Docket No. 50-440

License No. NPF-58

10 North Center Street

Perry, OH 44081

Mr. Jeffrey S. Forbes

Site Vice President

Entergy Operations, Inc.

Arkansas Nuclear One, Units 1 & 2

Docket Nos. 50-313 & 50-368

License Nos. DPR-51 & NPF-6

1448 S. R. 333

Russellville, AR 72802

M. R. Blevins

Senior Vice President and Chief Nuclear Officer

TXU Generation Company, LP

Comanche Peak Steam Electric Station, Units 1 & 2

Docket Nos. 50-445 & 50-446

License Nos. NPF-87 & NPF-89

5 Miles North of Glen Rose

Glen Rose, TX 76043

Mr. Randall K. Edington

Vice President—Nuclear and CNO

Nebraska Public Power District

Cooper Nuclear Station

Docket No. 50-298

License No. DPR-46

1200 Prospect Road

Brownville, NE 68321

Mr. George A. Williams

GGNS Vice President, Operations

Entergy Operations, Inc.

Grand Gulf Nuclear Station, Unit 1

Docket No. 50-416

License No. NPF-29

7003 Bald Hill Road-Waterloo Road

Port Gibson, MS 39150

Mr. Paul D. Hinnenkamp

Vice President—Operations

Entergy Operations, Inc.

River Bend Station, Unit 1

Docket No. 50-458

License No. NPF-47

5485 U.S. Highway 61N

St. Francisville, LA 70775

Mr. James J. Sheppard

President & Chief Executive Officer

South Texas Nuclear Operating Company

South Texas Project, Units 1 & 2

Docket Nos. 50-498 & 50-499

License Nos. NPF-76 & NPF-80

8 Miles West of Wadsworth, on FM 521

Wadsworth, TX 77483

Mr. Joseph E. Venable

Vice President Operations

Entergy Operations, Inc.

Waterford Steam Electric Generating Station, Unit 3

Docket No. 50-382

License No. NPF-38

17265 River Road

Killona, LA 70057-3093

Mr. Charles D. Naslund

Senior Vice President & Chief Nuclear Officer

Union Electric Company

Callaway Plant, Unit 1

Docket No. 50-483

License No. NPF-30

Junction Hwy CC & Hwy O: 5 Miles North of Hwy 94

Portland, MO 65067

Mr. John S. Keenan

Senior Vice President, Generation and Chief Nuclear Officer

Pacific Gas and Electric Company

Diablo Canyon Nuclear Power Plant,

Units 1 & 2

Docket Nos. 50-275 & 50-323

License Nos. DPR-80 & DPR-82

77 Beale Street, Mail Code B32

San Francisco, CA 94105

Mr. R. T. Ridenoure

Vice President—Chief Nuclear Officer

Omaha Public Power District

Fort Calhoun Station, Unit 1

Docket No. 50-285

License No. DPR-40

Fort Calhoun Station Administration Building 9750 Power Lane

Blair, NE 68008

Mr. James M. Levine

Executive Vice President, Generation

Arizona Public Service Company

Palo Verde Nuclear Generating Station, Units 1, 2 and 3

Docket Nos. 50-528, 50-529 & 50-530

License Nos. NPF-41, NPF-51 & NPF-74

5801 S. Wintersburg Road

Tonopah, AZ 85354-7529

Mr. Richard M. Rosenblum

Chief Nuclear Officer

Southern California Edison Company

San Onofre Nuclear Station, Units 2 & 3

Docket Nos. 50-361 & 50-362

License Nos. NPF-10 & NPF-15

5000 Pacific Coast Highway

San Clemente, CA 92674

Mr. J. V. Parrish

Chief Executive Officer

Energy Northwest

Columbia Generating Station

Docket No. 50-397

License No. NPF-21

Snake River Warehouse

North Power Plant Loop

Richland, WA 99352

Mr. Rick A. Muench

President & Chief Executive Officer

Wolf Creek Nuclear Operating Corporation

Wolf Creek Generating Station, Unit 1

Docket No. 50-482

License No. NPF-42

1550 Oxen Lane, NE

Burlington, KS 66839

Mr. Jeffrey B. Archie

Vice President, Nuclear Operations

South Carolina Electric and Gas Company

Virgil C. Summer Nuclear Station

Docket No. 50-395

License No. NPF-12

Hwy 215N at O.S. Bradham Boulevard

Jenkinsville, SC 29065

[FR Doc. E6-4371 Filed 3-24-06; 8:45 am]

BILLING CODE 7590-01-P